DEPARTMENT OF ENERGY

Notice of Intent To Prepare an Environmental Impact Statement for the Proposed Consolidation of Nuclear Operations Related to Production of Radioisotope Power Systems

AGENCY: Department of Energy.

ACTION: Notice of Intent.

SUMMARY: The Department of Energy (DOE) announces its intent to prepare an environmental impact statement (EIS), pursuant to the National Environmental Policy Act (NEPA) of 1969, for the proposed consolidation of nuclear activities related to production of radioisotope power systems (RPS) required for Government national security and space exploration missions at a single, highly secure DOE site. Currently, DOE's ongoing RPS-related production operations are located at three DOE sites in Idaho, New Mexico and Tennessee, requiring the transport of radioactive material that could be avoided by consolidation of these activities at a single site. The proposed consolidation of these operations, which includes production, purification, and encapsulation of plutonium-238 (Pu-238), would be consistent with DOE's approach on consolidating nuclear materials, increasing the security of nuclear materials, and reducing risks associated with transportation of nuclear materials. The EIS will analyze all reasonable alternatives for the consolidation of the RPS operations as well as the No Action alternative.

DATES: DOE invites public comments on the proposed scope of this EIS. The public scoping period begins with the publication of this notice and concludes on January 31, 2005. DOE invites the general public, Native American Tribes, State and local governments, other Federal agencies, DOE stakeholders, and other interested parties to comment on the scope of this EIS. To ensure that comments are considered in the preparation of the EIS, the comments should be transmitted or postmarked by January 31, 2005. Late comments will be considered to the extent practicable.

DOE will conduct seven public scoping meetings in Idaho Falls, Twin Falls, and Fort Hall, Idaho; Jackson Hole, Wyoming; Los Alamos, New Mexico; Oak Ridge, Tennessee; and Washington, DC. During the scoping meetings, DOE will provide information on the proposed consolidation project and receive oral and written comments on the scope of the EIS, including those regarding reasonable alternatives and environmental issues that DOE should consider. The location, date, and time for these public meetings are as follows:

Idaho Falls, ID: Monday, December 6, 2004, from 6-8:30 p.m. at the Shilo Inn, Riverview Room, 780 Lindsay Blvd., Idaho Falls, ID 83402

Jackson, WY: Tuesday, December 7, 2004, from 7-9:30 p.m. at the Jackson Hole Middle School, Commons Room, 1230 South Park Loop Road, Jackson, WY 83001

Fort Hall, ID: Wednesday, December 8, 2004, from7-9:30 p.m. at the Fort Hall Tribal Business Center, Tribal Council Chambers, Pima Drive (I-15, Exit 80), Fort Hall Town Site, Fort Hall, ID 83203

Twin Falls, ID: Thursday, December 9, 2004, from 7-9:30 p.m. at the Shilo Inn, Twin Falls B Meeting Room, 1586 Blue Lake Blvd., Twin Falls, ID 83301

Los Alamos, NM: Monday, December 13, 2004, from 6-8:30 p.m. at the Los Alamos Golf Course, Golf Course Main Room, 4250 Diamond Drive, Los Alamos, NM 87544

Oak Ridge, TN: Wednesday, December 15, 2004, from 6-8:30 p.m. at the Oak Ridge Comfort Inn, Magnolia Conference Room, 433 S. Rutgers Ave., Oak Ridge, TN 37830

Washington, DC: Friday, December 17, 2004, from 1-3:30 p.m. at the Hyatt Regency on Capitol Hill, 400 New Jersey Avenue, NW., Washington, DC 20001

ADDRESSES: Comments or suggestions on the scope for the EIS, questions concerning the proposed action, requests to participate at the public scoping meetings, requests for special arrangements that would enable participation at the scoping meetings (e.g., an interpreter for the hearing impaired), and requests to be placed on the EIS distribution list may be directed to: Timothy A. Frazier, Document Manager, NE-50/Germantown Building, Office of Space and Defense Power Systems, Office of Nuclear Energy, Science and Technology, U.S. Department of Energy, 1000 Independence Avenue, SW., Washington, DC 20585-1290, telephone 301-903-9420, or submitted via e-mail to ConsolidationEIS@nuclear.energy.gov. You may also leave a message at (800) 919-3716, or send a fax to (800) 919-3765. Comments may also be submitted to DOE via the RPS EIS Web site at ConsolidationEIS.doe.gov.

FOR FURTHER INFORMATION CONTACT: For general information on the DOE NEPA process, please contact: Carol Borgstrom, Director, Office of NEPA Policy and Compliance, Office of Environment, Safety and Health, U.S. Department of Energy, 1000 Independence Avenue, SW., Washington, DC 20585, 202-586-4600, or leave a message at 1-800-472-2756.

SUPPLEMENTARY INFORMATION:

Background

The RPS is a unique technology for missions that require a long-term, unattended source of heat and/or electrical power for use in harsh and remote environments—such as deep-space. The Pu-238 in these units serves as the source for generating heat and electricity. The heat source can be used directly to warm critical spacecraft components.

Currently, DOE plans to produce RPS in support of Government national security and space exploration missions at three geographically separate and distant DOE sites: the Oak Ridge National Laboratory (ORNL), Tennessee; Los Alamos National Laboratory (LANL), New Mexico; and the Idaho Site, Idaho. DOE proposes to consolidate all nuclear activities of the existing and future RPS production operations at a single, highly secure DOE site. This consolidation would be consistent with DOE's approach on consolidating nuclear materials, increasing the security of nuclear materials, and reducing risks associated with the transportation of nuclear materials.

The nuclear infrastructure required to produce RPS is comprised of three major components: (1) The production of Pu-238; (2) the purification and encapsulation of Pu-238 into a fuel form; and (3) the assembly, testing, and delivery of the RPS to the Federal users. The three major components of the existing infrastructure, including their current status, are briefly described below:

Production of Pu-238: The Pu-238 production process consists of the fabrication of neptunium-237 (Np-237) targets, irradiation of the targets in a suitable irradiation facility, and the recovery of Pu-238 from the irradiated targets through chemical processing. In the past, Pu-238 was produced at DOE's Savannah River Site (SRS), using reactors that are no longer operating. After SRS stopped producing Pu-238, DOE satisfied its Pu-238 requirement by using DOE's available inventory in storage at LANL. This inventory was augmented by Pu-238 purchased from Russia for use in space missions. DOE analyzed the need for reestablishment of Pu-238 production capability in the Programmatic Environmental Impact Statement for Accomplishing Expanded Civilian Nuclear Energy Research and Development and Isotope Production Missions in the United States, Including the Role of the Fast Flux Test Facility (NI PEIS) (DOE/EIS-0310), issued in December 2000. On the basis of the analysis in the NI PEIS, DOE issued a Record of Decision (ROD) (66 FR 7877, January 26, 2001) to reestablish Pu-238 production capability at ORNL using the Radiochemical Engineering Development Center (REDC) for the fabrication of targets and extraction of Pu-238 from the irradiated targets. The Advanced Test Reactor (ATR) located at the Idaho National Engineering and Environmental Laboratory (also referred to as the Idaho Site), supplemented by the High Flux Isotope Reactor (HFIR) located at ORNL, would be used in the irradiation of targets, and the irradiated targets would be returned to REDC/ORNL for extraction of Pu-238. This decision, however, has not yet been implemented and the DOE has expended no resources to establish the Pu-238 production at the Oak Ridge Site.

Np-237, the feed material for fabrication of targets for Pu-238 production, had been stored at the SRS where Pu-238 was historically produced. In the NI PEIS ROD, DOE decided to transfer this material to ORNL since the Pu-238 capability was planned to be reestablished there. However, Np-237 is a special nuclear material and, after the events of September 11, 2001, it required a higher level of security than could be reasonably provided at REDC/ORNL. Therefore, DOE amended the ROD for the NI PEIS to change the storage location for Np-237 from ORNL to the Idaho Site (69 FR 50180, August 13, 2004). Np-237, in the form of an oxide, will be shipped from SRS to the Idaho Site beginning in FY 2005 (and ending in FY 2006) for storage until needed for Pu-238 production.

Purification and Encapsulation of Pu-238: Pu-238 is purified and encapsulated in a metal capsule and welded closed. These fuel capsules are used as a heat source in the RPS. The purification and encapsulation work is currently conducted within the Technical Area-55 (TA-55) complex at LANL. The finished Pu-238 fuel capsules are shipped from LANL for assembly of the RPS at the Idaho Site.

Assembly and Test Operations: From the early 1980s until late-2002, DOE conducted its assembly and test operations for the RPS at the Mound Site in Miamisburg, Ohio. Increased security requirements and concerns resulting from the attacks on September 11, 2001, led DOE to transfer these operations to the Idaho Site to provide enhanced security in a cost effective manner at a highly secure DOE site. The environmental impacts of the transfer from the Mound Site to the Idaho Site were assessed in an Environmental Assessment (DOE/EA-1343). A Finding of No Significant Impact was signed by DOE on August 30, 2002, and the transfer of the assembly and testing capability was initiated. The first RPS will be assembled and tested at the Idaho Site by September 2005 in support of the National Aeronautics and Space Administration's (NASA) planned mission to survey the planet Pluto.

In summary, the current RPS production capability and infrastructure resides at or was planned to reside within the DOE complex at the following different locations:

• Np-237, used in preparation of targets as the feed material for Pu-238 production, was to be transferred and stored at the Idaho Site (amendment to the NI PEIS ROD).

• The production capability was planned to be located at ORNL (NI PEIS ROD) where the targets would be fabricated in REDC, irradiated at ATR in Idaho (supplemented by HFIR in Oak Ridge) and then processed in REDC to recover Pu-238. Pu-238 was then to have been transported to LANL.

• Pu-238 was to be purified and encapsulated in TA-55 at LANL and transported to the Idaho Site.

• RPS assembly and test operations was to be conducted at the Idaho Site.

Purpose and Need for Agency Action

As described above, RPS production infrastructure exists at or is planned for DOE sites in three locations: ORNL, LANL, and the Idaho Site. Consolidation of these operations at a single site would significantly increase security of the nuclear material while reducing risks associated with the transport of radioactive material.

Proposed Action

DOE proposes to consolidate all Pu-238 operations at a single, highly secure site within its complex. These operations include the production of Pu-238, purification and encapsulation of Pu-238, and the assembly and testing of the RPS.

Preliminary Alternatives

Consistent with NEPA implementation requirements, the EIS will assess the range of reasonable alternatives regarding DOE's need to consolidate nuclear operations related to RPS. DOE has identified the following two alternatives for the proposed RPS Production Consolidation Project.

A. No Action Alternative: Under the No Action Alternative, DOE would continue the RPS production operations as explained above. The operations would consist of: (1) Np-237 storage at the Idaho Site and shipments to ORNL as needed for target fabrication; (2) Pu-238 production at ORNL using HFIR and ATR (Idaho) for irradiation and processing in REDC located at ORNL; (3) Pu-238 purification and encapsulation in TA-55 facility at LANL; and (4) RPS assembly and test operations at the Idaho Site.

B. Consolidation of Nuclear Operations Related to Production of RPS at the Idaho Site, the Preferred Alternative: Under this alternative, DOE would consolidate all activities related to RPS production within the secure area at the Idaho Site. New construction for the Pu-238 production, purification, and encapsulation part of the infrastructure would be required due to the very limited capability of existing facilities in the secure area. No new construction would be required for the assembly and test operations that are already being located in the secure area at the Idaho Site. As previously stated, the consolidation of the RPS production infrastructure would include the following activities: (1) Np-237 would be stored at the Idaho Site as already decided; (2) Pu-238 production capability (including Np-237 target fabrication and processing) would be established at the Idaho Site with ATR serving as the primary irradiation facility, and HFIR would be used only as a back-up facility if necessary; (3) Pu-238 operations carried out at the TA-55 complex at LANL would be transferred to the Idaho Site; and (4) the existing facility, the Space and Security Power Systems Facility, at the Idaho Site would continue to be established and maintained for RPS assembly and test operations as already planned. This area of the Idaho Site where RPS nuclear operations are proposed to be consolidated is a highly secure location within the DOE complex.

C. Other Reasonable Alternatives: Any other reasonable alternatives identified through the scoping process will be evaluated as appropriate.

DOE considered whether consolidation at another site is reasonable. The proposed consolidation is not achievable at LANL since there is no operating reactor at the site for irradiation of targets.

Consolidation at ORNL would not allow the DOE to meet its programmatic need. Because the reactor at ORNL, HFIR, is a dedicated facility for projects related to basic energy sciences and isotope production, use of this reactor for the RPS program would only be on an “as available” basis and could not be guaranteed. Consolidation at ORNL, therefore, could only partially meet the programmatic objective. Also, as analyzed in the NI PEIS, irradiation of targets in HFIR would be limited due to reactor design and could not produce enough Pu-238 to meet programmatic objectives.

Preliminary Identification of Environmental Issues

The issues listed below have been tentatively identified for analysis in the EIS. This list is presented to facilitate public comment on the scope of the EIS. It is not intended to be all-inclusive or to predetermine the potential impacts of any of the alternatives. DOE seeks public comments on the adequacy and completeness of the following issues:

• Potential impacts on ecosystems, including air quality, surface, and groundwater quality, and plants and animals.

• Potential health and safety impacts to on-site workers and to the public resulting from operations including reasonably foreseeable accidents.

• Potential health and safety, environmental, and other impacts related to the transport of radioactive materials to the consolidation location.

• Considerations related to the generation, treatment, storage, and disposal of wastes including the potential acceptability of waste at appropriate disposal facilities.

• Potential cumulative impacts of Pu-238 mission operations, including relevant impacts from other past, present, and reasonably foreseeable activities at the consolidation site.

• Potential impacts on cultural resources.

• Potential socioeconomic impacts including any disproportionate impacts on minority and low-income populations.

• Pollution prevention and waste minimization opportunities.

Related NEPA Documentation

NEPA documents that have been prepared for activities related to the proposed action include, but are not limited to, the following:

• Programmatic Environmental Impact Statement for Accomplishing Expanded Civilian Nuclear Energy Research and Development and Isotope Production Missions in the United States including the Role of the Fast Flux Test Facility (DOE/EIS-0310) (December 2000); and

• Environmental Assessment for Consolidation of Heat Source/Radioisotope Thermoelectric Generator (HS/RTG) Assembly and Testing Operations (DOE/EA-1343) (August 2002).

These NEPA documents (DOE/EIS-0310) and (DOE/EA-1343) are available on the DOE NEPA Web site at http://www.eh.doe.gov/nepa.

Public Reading Rooms

Documents referenced in this NOI and other related information are available at DOE-Idaho Operations Office Public Reading Room, 1776 Science Center Drive, Idaho Falls, ID 83415 (telephone 208-526-0271) and U.S. Department of Energy, Freedom of Information Reading Room, Forrestal Building, Room 1E-190,1000 Independence Avenue, SW., Washington, DC 20585-0117 (telephone 202-586-3142). As mentioned above, DOE's NEPA documents, including this NOI, are available at the DOE NEPA Web site (http://www.eh.doe.gov/nepa) and the RPS EIS Web site ConsolidationEIS.doe.gov.

Public Involvement Opportunities

DOE seeks public involvement in the preparation of the EIS and solicits public comments on its scope and content as well as participation at the public scoping meetings in Idaho, Wyoming, New Mexico, Tennessee, and Washington, DC. DOE personnel will be available at the scoping meetings to explain the proposed project and answer questions. DOE will designate a neutral facilitator for the scoping meetings. During the first hour of each meeting, attendees may register, view displays, and discuss issues and concerns informally with DOE representatives. Following registration and the informal session, there will be a formal presentation and a period for questions, answers, and comments. To ensure that all persons wishing to express their comments are given an opportunity, a five-minute limit may be applied for each person; however, public officials and representatives of groups would be allotted ten minutes each. DOE encourages those presenting comments orally to also submit written comments, if possible.

Comment cards will be available at the meetings for those who prefer to submit their comments in writing. Participants may be asked clarifying questions to ensure that DOE representatives fully understand the comments and suggestions.

NEPA Process

The EIS for the proposed consolidation of nuclear operations related to the production of RPS will be prepared pursuant to the NEPA of 1969, the Council on Environmental Quality's Regulations for Implementing the Procedural Provisions of NEPA (40 CFR Parts 1500-1508), and DOE NEPA Implementing Procedures (10 CFR Part 1021). A 45-day comment period on the draft EIS is planned, during which public hearings will be held to receive comments. The draft EIS is scheduled to be issued in late spring 2005. Availability of the draft EIS, the dates of the public comment period, and information about the public hearings will be announced in the Federal Register and in local news media when the draft EIS is distributed. The final EIS is scheduled to be issued in late 2005. No sooner than 30 days after the U.S. Environmental Protection Agency's notice of availability of the final EIS is published in the Federal Register, DOE may issue its ROD.

Issued in Washington, DC on November 10, 2004.
John Spitaleri Shaw,
Acting Assistant Secretary for Environment, Safety and Health.

[FR Doc. 04-25406 Filed 11-15-04; 8:45 am]

BILLING CODE 6450-01-P